ENVIRONMENTAL PROTECTION AGENCY

[EPA-HQ-OECA-2014-0078; FRL-9986-57-OEI]

Information Collection Request Submitted to OMB for Review and Approval; Comment Request; NESHAP for Metal Coil Surface Coating Plants (Renewal)

AGENCY: Environmental Protection Agency (EPA).

ACTION: Notice.

SUMMARY: The Environmental Protection Agency (EPA) has submitted an information collection request (ICR), NESHAP for Metal Coil Surface Coating Plants (EPA ICR Number 1957.08, OMB Control Number 2060-0487), to the Office of Management and Budget (OMB) for review and approval in accordance with the Paperwork Reduction Act. This is a proposed extension of the ICR, which is currently approved through November 30, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 26, 2018.

ADDRESSES: Submit your comments, referencing Docket ID Number EPA-HQ-OECA-2014-0078, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at either www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Metal Coil Surface Coating Plants (40 CFR part 63, subpart SSSS) apply to existing facilities and new facilities that are major sources of hazardous air pollutants (HAP) at which a coil coating line is operated. A coil coating line is a process in which special equipment is used to apply an organic coating to the surface of metal coils; the affected source at each plant site is the collection of all coil coating lines at the site. The provisions of this Subpart do not apply to coil coating lines that are part of research or laboratory equipment or coil coating lines on which at least 85 percent of the metal coil coated, based on surface area, is less than 0.15 millimeters (0.006 inches) thick, unless the coating line is controlled by a common control device. New facilities include those that commenced construction or reconstruction after the date of proposal.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart SSSS.

Form Numbers: None.

Respondents/affected entities: Facilities engaged in metal coil surface coating.

Respondent's obligation to respond: Mandatory (40 CFR 63, Subpart SSSS).

Estimated number of respondents: 48 (total).

Frequency of response: Initially and semiannually.

Total estimated burden: 16,100 hours (per year). Burden is defined at 5 CFR 1320.3(b).

Total estimated cost: $1,820,000 (per year), which includes $57,600 in annualized capital/setup and/or operation & maintenance costs.

Changes in the estimates: There is a decrease in the total estimated burden and the number of responses as currently identified in the OMB Inventory of Approved Burdens. This decrease is not due to any program changes. The decrease is a result of an adjustment made to the estimated number of respondents based on data from internal Agency experts. The total number of respondents is significantly reduced since the last ICR renewal based on the delisting of methyl ethyl ketone as a HAP.

Courtney Kerwin,
Director, Regulatory Support Division.

[FR Doc. 2018-25671 Filed 11-23-18; 8:45 am]

BILLING CODE 6560-50-P